DEPARTMENT OF COMMERCE

Foreign-Trade Zones Board

[Docket 41-2010]

Foreign-Trade Zone 46-Cincinnati, Ohio; Application for Reorganization/Expansion Under Alternative Site Framework

An application has been submitted to the Foreign-Trade Zones (FTZ) Board (the Board) by the Greater Cincinnati Foreign-Trade Zone, Inc., grantee of FTZ 46, requesting authority to reorganize and expand the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on May 21, 2010.

FTZ 46 was approved by the Board on January 12, 1979 (Board Order 141, 44 F.R. 4003, January 19, 1979). On December 19, 1994 the zone was relocated and expanded (Board Order 720, 59 F.R. 66891, December 28, 1994). The zone was further expanded on December 15, 1997 (Board Order 943, 62 FR 67044, December 23, 1997), December 15, 1999 (Board Order 1070, 64 F.R. 72643, December 28, 1999) and December 29, 2000 (Board Order 1135, 66 F.R. 3985, January 17, 2001).

The general-purpose zone includes the following sites: Site 1 (35 acres)—Avon Products, Inc., 175 Progress Place, Springdale (Hamilton County); Site 2 (122 acres)—Cincinnati Machine, 4701 Marburg Avenue, Cincinnati (Hamilton County); Site 3 (833 acres)—Clermont County Industrial Park, 4165 Half Acre Road, Batavia (Clermont County); Site 4 (490 acres)—Brown County Industrial Park, 418 W. Main Street, Mt. Orab (Brown County); and, Site 5 (160 acres)—Harrison Commerce Park, Southwest Parkway, Harrison (Hamilton County).

The grantee's proposed service area under the ASF would be Hamilton, Butler, Warren, Brown and Clermont Counties, as described in the application. If approved, the grantee would be able to serve sites throughout the service area based on companies' needs for FTZ designation. The proposed service area is within and adjacent to the Cincinnati Customs and Border Protection port of entry.

The applicant is requesting authority to reorganize its existing zone project as follows: remove Sites 1 and 2 due to changed circumstances and designate Sites 3, 4 and 5 as “magnet” sites. The ASF allows for the possible exemption of one magnet site from the “sunset” time limits that generally apply to sites under the ASF, and the applicant proposes that Site 4 be so exempted. The applicant is also requesting approval of a “usage-driven” site in Butler County: Proposed Site 6 (41 acres)—Liz Claiborne, Inc., 8471 Jaquemin Drive, West Chester. Since the ASF only pertains to establishing or reorganizing a general-purpose zone, the application would have no impact on FTZ 46's authorized subzones.

In accordance with the Board's regulations, Claudia Hausler of the FTZ Staff is designated examiner to evaluate and analyze the facts and information presented in the application and case record and to report findings and recommendations to the Board.

Public comment is invited from interested parties. Submissions (original and 3 copies) shall be addressed to the Board's Executive Secretary at the address below. The closing period for their receipt is August 2, 2010. Rebuttal comments in response to material submitted during the foregoing period may be submitted during the subsequent 15-day period to August 16, 2010.

A copy of the application will be available for public inspection at the Office of the Executive Secretary, Foreign-Trade Zones Board, Room 2111, U.S. Department of Commerce, 1401 Constitution Avenue NW., Washington, DC 20230-0002, and in the “Reading Room” section of the Board's Web site, which is accessible via http://www.trade.gov/ftz. For further information, contact Claudia Hausler at Claudia.Hausler@trade.gov or (202) 482-1379.

Dated: May 21, 2010.
Andrew McGilvray,
Executive Secretary.

[FR Doc. 2010-13203 Filed 6-1-10; 8:45 am]

BILLING CODE 3510-DS-P